INTERNATIONAL TRADE COMMISSION

[Investigation Nos. 701-TA-618-619 and 731-TA-1441-1442 (Final)]

Carbon and Alloy Steel Threaded Rod From China and India; Determinations

On the basis of the record ¹ developed in the subject investigations, the United States International Trade Commission (“Commission”) determines, pursuant to the Tariff Act of 1930 (“the Act”), that an industry in the United States is materially injured by reason of imports of carbon and alloy steel threaded rod (“threaded rod”) from China and India, provided for in subheadings 7318.15.50, 7318.15.20, and 7318.19.00 of the Harmonized Tariff Schedule of the United States, that have been found by the U.S. Department of Commerce (“Commerce”) to be sold in the United States at less than fair value (“LTFV”),² and to be subsidized by the governments of China and India.³

¹ The record is defined in sec. 207.2(f) of the Commission's Rules of Practice and Procedure (19 CFR 207.2(f)).

² 85 FR 8818 and 85 FR 8821 (February 18, 2020).

³ 85 FR 8828 and 85 FR 8833 (February 18, 2020).

Background

The Commission, pursuant to section 735(b) of the Act (19 U.S.C. 1673d(b)), instituted these investigations effective February 21, 2019, following receipt of petitions regarding imports of threaded rod from China, India, Taiwan, and Thailand filed with the Commission and Commerce by Vulcan Threaded Products Inc. (“Vulcan”), Pelham, Alabama. The Commission established a general schedule for the conduct of the final phase of the investigations following notification of a preliminary determination by Commerce that imports of threaded rod from Thailand were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of August 27, 2019 (84 FR 44916). The hearing was held in Washington, DC, on October 15, 2019, and all persons who requested the opportunity were permitted to appear in person or by counsel. The Commission subsequently issued its final affirmative determination regarding dumped imports from Thailand on December 5, 2019 (84 FR 67476, December 10, 2019).

Following notification of a final determination by Commerce that imports of threaded rod from Taiwan were being sold in the United States at LTFV,⁴ notice of the supplemental scheduling of the final phase of the Commission's antidumping duty investigation with respect to Taiwan was given by posting copies of the notice in the Office of the Secretary, U.S. International Trade Commission, Washington, DC, and by publishing the notice in the Federal Register of December 16, 2019 (84 FR 68473). The Commission subsequently issued its final affirmative determination regarding dumped imports from Taiwan on January 23, 2020 (85 FR 5237, January 29, 2020).

⁴ 84 FR 67258 (December 9, 2019).

Following notification of a final determination by Commerce that imports of threaded rod from China and India were being sold in the United States at LTFV ⁵ and subsidized by the governments of China and India,⁶ notice of the supplemental scheduling of the final phase of the Commission's antidumping and countervailing duty investigations with respect to China and India was given by posting copies of the notice in the Office of the Secretary, U.S. International Trade Commission, Washington, DC, and by publishing the notice in the Federal Register of February 26, 2020 (85 FR 11101).

⁵ 85 FR 8818 and 85 FR 8821 (February 18, 2020).

⁶ 85 FR 8828 and 85 FR 8833 (February 18, 2020).

The Commission made these determinations with respect to imports from China and India pursuant to sections 705(b) and 735(b) of the Act (19 U.S.C. 1671d(b) and 19 U.S.C. 1673d(b)). It completed and filed its determinations in these investigations on April 3, 2020. The views of the Commission are contained in USITC Publication 5040 (April 2020), entitled Carbon and Alloy Steel Threaded Rod from China and India: Investigation Nos. 701-TA-618-619 and 731-TA-1441-1442 (Final).

By order of the Commission.
Issued: April 3, 2020.
Lisa Barton,
Secretary to the Commission.

[FR Doc. 2020-07404 Filed 4-7-20; 8:45 am]

BILLING CODE 7020-02-P